DEPARTMENT OF ENERGY

Federal Energy Regulatory Commission

[Project No. 2336-094]

Georgia Power Company; Notice of Modification of Procedural Schedule and Waiver of the Commission's Regulatory Deadline for Scoping and Environmental Site Review

Take notice that the Commission's regulatory deadline for scoping and environmental site review for the following hydroelectric application is waived, and the schedule for processing the hydroelectric application has been modified.

a. Type of Filing: Notice of Intent to File License Application for a New License and Commencing Pre-filing Process.

b. Project No.: 2336-094.

c. Dated Filed: July 3, 2018.

d. Submitted By: Georgia Power Company (Georgia Power).

e. Name of Project: Lloyd Shoals Hydroelectric Project.

f. Location: The project is located on the Ocmulgee River in Butts, Henry, Jasper, and Newton Counties, Georgia. No federal lands have been identified within the project boundary.

g. Filed Pursuant to: 18 CFR part 5 of the Commission's Regulations.

h. Potential Applicant Contact: Courtenay R. O'Mara, P.E., Hydro Licensing and Compliance Supervisor, Southern Company Generation, 241 Ralph McGill Boulevard NE, BIN 10193, Atlanta, GA 30308-3374; (404) 506-7219; or g2jacksonrel@southernco.com.

i. FERC Contact: Navreet Deo at (202) 502-6304, or email at navreet.deo@ferc.gov.

j. Scoping Meetings: The Commission's August 20, 2018, Notice of Commencement of Proceedings, and Commission staff's Scoping Document 1, established September 13, 2018, as the date for the public scoping meetings, and September 14, 2018, as the date for the environmental site review. The Commission's September 12, 2018, Notice of Cancellation of Scoping and Site Review canceled the meetings until further notice due to Hurricane Florence. With this notice, the Commission waives the regulatory deadline of scoping and site review within 30 days of the Notice of Commencement of Proceedings and Scoping Document 1, and establishes the following revised dates and locations for the scoping meetings and site review:

Daytime Scoping Meeting—Jackson, Georgia

Date & Time: Tuesday, October 9, 2018, at 1 p.m.

Location: Pepper Sprout Barn, 562 Old Bethel Road, Jackson, Georgia 30233, (678) 752-1550

Evening Scoping Meeting—Jackson, Georgia

Date & Time: Tuesday, October 9, 2018, at 6:30 p.m.

Location: Pepper Sprout Barn, 562 Old Bethel Road, Jackson, Georgia 30233, (678) 752-1550

Environmental Site Review

The potential applicant and Commission staff will conduct an environmental site review of the project on Wednesday, October 10, 2018, consisting of facility tours from 9:00 a.m. to 12:00 p.m., and boat tours from 1:00 p.m. to 4:00 p.m. All participants should meet at the Jackson Land Management Office located at 180 Dam Road, Jackson, Georgia 30233. Participants must notify Courtenay O'Mara at g2jacksonrel@southernco.com, or (404) 506-7219, on or before October 3, 2018, if they plan to attend the environmental site review.

k. Procedural Schedule: The application will be processed according to the following schedule. Revisions to the schedule may be made as appropriate. If a date falls on a weekend or holiday, the due date will be the following business day.

Milestone | Target date
Public Scoping Meetings and Environmental Site Review | October 9, 2018 & October 10, 2018.
File Comments on PAD, SD1, and Study Requests | November 5, 2018.
Commission Issues SD2, if necessary | December 20, 2018.
File Proposed Study Plan | December 20, 2018.
Study Plan Meetings | January 22, 2019.
File Comments on Proposed Study Plan | March 20, 2019.
File Revised Proposed Study Plan | April 19, 2019.
File Comments on Revised Proposed Study Plan | May 6, 2019.
Commission Issues Study Plan Determination | May 20, 2019.

Dated: September 20, 2018.
Kimberly D. Bose,
Secretary.

[FR Doc. 2018-21054 Filed 9-26-18; 8:45 am]

BILLING CODE 6717-01-P